DEPARTMENT OF COMMERCE

National Oceanic and Atmospheric Administration

RIN 0648-XG041

Programmatic Environmental Impact Statement for the Marine Mammal Health and Stranding Response Program

AGENCY: National Marine Fisheries Service (NMFS), National Oceanic and Atmospheric Administration (NOAA), Commerce.

ACTION: Notice of intent to prepare a Programmatic Environmental Impact Statement (PEIS); request for comments; correction.

SUMMARY: This notice contains corrections to the scoping meeting times published on April 2, 2018, in the DATES section of a notice of intent for the Marine Mammal Health and Stranding Response Program (MMHSRP) to prepare a PEIS. This action is necessary to correct an error in the times of the in-person scoping meeting and webinars published in the Federal Register.

DATES: This correction is applicable as of April 27, 2018.

FOR FURTHER INFORMATION CONTACT: Stephen Manley, NMFS, Office of Protected Resources, 301-427-8402, Stephen.Manley@noaa.gov.

SUPPLEMENTARY INFORMATION:

Background

A notice of intent for the MMHSRP to prepare a PEIS published on April 2, 2018 (83 FR 13955). This correction replaces the meeting times in the notice.

Need for Correction

As published, in the DATES section, on page 13956 of the Federal Register, the times of the in-person scoping meeting on May 18, 2018, and scoping webinar on May 21, 2018, were incorrect. This correction does not change NMFS' intent to prepare a PEIS for the MMHSRP. The correct dates and times of the public scoping meeting and webinars are as follows:

DATES: Comments must be received by June 1, 2018. Those wishing to attend either the webinars or in-person meeting must register at https://mmhsrp-peis.eventbrite.com. Scoping meetings are scheduled as follows:

1. May 1, 2018, 3 p.m. EDT—Webinar (Registration Required)

2. May 15, 2018, 3:30 p.m. EDT—Webinar (Registration Required)

3. May 18, 2018, 10:30 a.m. EDT—(valid ID compliant with the REAL ID Act required)—NOAA Science Center, 1301 East West Highway, Silver Spring, MD

4. May 21, 2018, 3:00 p.m. EDT—Webinar (Registration Required)

Dated: April 24, 2018.
Donna S. Wieting,
Director, Office of Protected Resources, National Marine Fisheries Service.

[FR Doc. 2018-08892 Filed 4-26-18; 8:45 am]

BILLING CODE 3510-22-P